DEPARTMENT OF HEALTH AND HUMAN SERVICES

Health Resources and Services Administration

Reproductive and Environmental Health Network

AGENCY: Health Resources and Services Administration, HHS.

ACTION: Notice of a Single-Award Deviation from Competition Requirements for the Reproductive and Environmental Health Network.

SUMMARY: HRSA announces the award of an extension in the amount of $1,100,000 for the Reproductive and Environmental Health Network (REHN) cooperative agreement. The purpose of the REHN is to improve maternal and fetal health outcomes by providing evidence-based information on the safety of exposures in pregnancy and lactation. The extension will permit the Organization of Teratology Information Specialists (OTIS), the cooperative agreement awardee, during the budget period of 9/1/2016-8/31/2017, to continue to provide evidence-based information on the safety of exposures in pregnancy and lactation through individualized risk-assessments and counseling services, developing and disseminating the most current education to providers and the public, improving access to information for hard-to-reach populations, and supporting a national network of resources with centers accessible to each of the 10 HRSA regions.

SUPPLEMENTARY INFORMATION: Intended Recipient of the Award: Organization of Teratology Information Specialists.

Amount of Non-Competitive Awards: $1,100,000.

Period of Supplemental Funding: 9/1/2016-8/31/2017.

CFDA Number: 93.110.

Authority: Social Security Act, Title V, § 501(a)(2); (42 U.S.C. 701(a)(2)).

Justification: REHN activities are essential to achieving HHS Healthy People 2020 goals related to improving preconception care, preventing maternal morbidity and mortality, reducing infant mortality, and reducing health disparities in perinatal health. During this extension period of the budget period (9/1/2016-8/31/2017), MCHB plans to issue a new FOA that will align HRSA's work in this area with work funded by the Environmental Protection Agency (EPA) and the Centers for Disease Control and Prevention's (CDC) through their jointly funded Pediatric Environmental Health Specialty Unit Program (PEHSU). Aligning REHN and PEHSU will result in a more comprehensive HHS initiative to expand access to services and maximize limited resources in this area. During this time, OTIS would continue to provide individualized risk-assessments and counseling services, developing and disseminating the most current education to providers and the public, improving access to information for hard-to-reach populations, and supporting a national network of resources with centers accessible to each of the 10 HRSA regions.

MCHB proposes to initiate a one-time 12 month extension for the budget period of 9/1/2016 to 8/31/2017 with $1,100,000 in FY 2016 funds to the OTIS REHN cooperative agreement. The extension would allow the OTIS to continue to provide evidence-based information on the safety of exposures in pregnancy and lactation through individualized risk-assessments and counseling services, developing and disseminating the most current education to providers and the public, improving access to information for hard-to-reach populations, and supporting a national network of resources with centers accessible to each of the 10 HRSA regions.

FOR FURTHER INFORMATION CONTACT: Kathryn McLaughlin, MPH, Division of Services for Children with Special Health Needs, Maternal and Child Health Bureau, Health Resources and Services Administration, 5600 Fishers Lane, Room 18W08, Rockville, MD 20852, Phone: (301) 443-6829, Email: KMcLaughlin@hrsa.gov.

Dated: June 3, 2016.
James Macrae,
Acting Administrator.

[FR Doc. 2016-13784 Filed 6-9-16; 8:45 am]

BILLING CODE 4165-15-P